TENNESSEE VALLEY AUTHORITY

Agency Information Collection Activities: Proposed Collection; Comment Request

AGENCY: Tennessee Valley Authority.

ACTION: 30-day notice of submission of information collection approval and request for comments.

SUMMARY: This survey is used to locate, for monitoring purposes, rural residents, home gardens, and milk animals within a five mile radius of a nuclear power plant. The Land use survey is performed once per year. TVA uses the Land use survey data for their effluent annual report to the NRC normally in April every year. The proposed information collection described below will be submitted to the Office of Management and Budget (OMB) at, oira_submission@omb.eop.gov, for review, as required by the Paperwork Reduction Act of 1995 (44 U.S.C. chapter 35, as amended). The Tennessee Valley Authority is soliciting public comments on this proposed collection as provided by 5 CFR 1320.8(d)(1).

DATES: Comments should be sent to the Agency Clearance Officer and the OMB Office of Information & Regulatory Affairs, Attention: Desk Officer for Tennessee Valley Authority, Washington, DC 20503, or email: oira_submission@omb.eop.gov, no later than November 25, 2015.

ADDRESSES: Requests for information, including copies of the information collection proposed and supporting documentation, should be directed to the Agency Clearance Officer: Philip D. Propes, Tennessee Valley Authority, 1101 Market Street (SP-5S-108), Chattanooga, Tennessee 37402-2801; (423) 751-8593.

SUPPLEMENTARY INFORMATION:

Type of Request: Regular request. Reinstatement, with change, of a previously approved collection for which approval has expired.

Title of Information Collection: Land Use Survey Questionnaire—Vicinity of Nuclear Power Plants.

Frequency of Use: Annual.

Type of Affected Public: Individuals or households, farms and business and other for-profit.

Small Businesses or Organizations Affected: Yes.

Federal Budget Functional Category Code: 271.

Estimated Number of Annual Responses: 150.

Estimated Total Annual Burden Hours: 75.0.

Estimated Average Burden Hours Per Response: .50.

Need For and Use of Information: The monitoring program is a mandatory requirement of the Nuclear Regulatory Commission set out in the technical specifications when the plants were licensed.

Philip D. Propes,
Director, Enterprise Information Security and Policy.

[FR Doc. 2015-27226 Filed 10-23-15; 8:45 am]

BILLING CODE 8120-01-P